DEPARTMENT OF THE INTERIOR

Bureau of Land Management

[UT-954-05-1910-BM-4677]

Montana: Filing of Plats of Amended Protraction Diagrams

AGENCY: Bureau of Land Management, Montana State Office, Interior.

ACTION: Notice of Filing of Plats of Amended Protraction Diagrams.

SUMMARY: The Bureau of Land Management (BLM) will file the plats of the amended protraction diagrams of the lands described below in the BLM Montana, State Office, Billings, Montana, (30) days from the date of publication in the Federal Register.

FOR FURTHER INFORMATION CONTACT: Steven G. Schey, Cadastral Surveyor, Branch of Cadastral Survey, Bureau of Land Management, 5001 Southgate Drive, P.O. Box 36800, Billings, Montana 59107-6800, telephone (406) 896-5132 or (406) 896-5009.

SUPPLEMENTARY INFORMATION: The amended protraction diagrams were prepared at the request of the U.S. Forest Service and are necessary to accommodate Revision of Primary Base Quadrangle Maps for the Geometronics Service Center.

The lands for the prepared amended protraction diagrams are:

Principal Meridian, Montana

Tps. 29, 30, 31, and 32 N., Rs. 32, 33, 34, and 35 W.

The plat, representing the Amended Protraction Diagram 40 Index of unsurveyed Townships 29, 30, 31, and 32 North, Ranges 32, 33, 34, and 35 West, Principal Meridian, Montana, was accepted April 20, 2005.

T. 29 N., R. 32 W.

The plat, representing Amended Protraction Diagram 40 of unsurveyed Township 29 North, Range 32 West, Principal Meridian, Montana, was accepted April 20, 2005.

T. 29 N., R. 34 W.

The plat, representing Amended Protraction Diagram 40 of unsurveyed Township 29 North, Range 34 West, Principal Meridian, Montana, was accepted April 20, 2005.

T. 29 N., R. 35 W.

The plat, representing Amended Protraction Diagram 40 of unsurveyed Township 29 North, Range 35 West, Principal Meridian, Montana, was accepted April 20, 2005.

T. 30 N., R. 32 W.

The plat, representing Amended Protraction Diagram 40 of unsurveyed Township 30 North, Range 32 West, Principal Meridian, Montana, was accepted April 20, 2005.

T. 30 N., R. 33 W.

The plat, representing Amended Protraction Diagram 40 of unsurveyed Township 30 North, Range 33 West, Principal Meridian, Montana, was accepted April 20, 2005.

T. 30 N., R. 35 W.

The plat, representing Amended Protraction Diagram 40 of unsurveyed Township 30 North, Range 35 West, Principal Meridian, Montana, was accepted April 20, 2005.

T. 31 N., R. 32 W.

The plat, representing Amended Protraction Diagram 40 of unsurveyed Township 31 North, Range 32 West, Principal Meridian, Montana, was accepted April 20, 2005.

T. 31 N., R. 33 W.

The plat, representing Amended Protraction Diagram 40 of unsurveyed Township 31 North, Range 33 West, Principal Meridian, Montana, was accepted April 20, 2005.

T. 31 N., R. 35 W.

The plat, representing Amended Protraction Diagram 40 of unsurveyed Township 31 North, Range 35 West, Principal Meridian, Montana, was accepted April 20, 2005.

T. 32 N., R. 32 W.

The plat, representing Amended Protraction Diagram 40 of unsurveyed Township 32 North, Range 32 West, Principal Meridian, Montana, was accepted April 20, 2005.

T. 32 N., R. 33 W.

The plat, representing Amended Protraction Diagram 40 of unsurveyed Township 32 North, Range 33 West, Principal Meridian, Montana, was accepted April 20, 2005.

T. 32 N., R. 35 W.

The plat, representing Amended Protraction Diagram 40 of unsurveyed Township 32 North, Range 35 West, Principal Meridian, Montana, was accepted April 20, 2005.

Tps. 29 and 32 N., Rs. 26 and 27 W.

The plat, representing the Amended Protraction Diagram 41 Index of unsurveyed Townships 29 and 32 North, Ranges 26 and 27 West, Principal Meridian, Montana, was accepted April 20, 2005.

T. 29 N., R. 27 W.

The plat, representing Amended Protraction Diagram 41 of unsurveyed Township 29 North, Range 27 West, Principal Meridian, Montana was accepted April 20, 2005.

T. 32 N., R. 26 W.

The plat, representing Amended Protraction Diagram 41 of unsurveyed Township 32 North, Range 26 West, Principal Meridian, Montana was accepted April 20, 2005.

We will place copies of the plats of the amended protraction diagrams we described in the open files. They will be available to the public as a matter of information.

If BLM receives a protest against these amended protraction diagrams, as shown on these plats, prior to the date of the official filings, we will stay the filings pending our consideration of the protest.

We will not officially file these plats of the amended protraction diagrams until the day after we have accepted or dismissed all protests and they have become final, including decisions or appeals.

Dated: May 23, 2005.
Heidi L. Pfosch,
Acting Chief Cadastral Surveyor, Division of Resources.

[FR Doc. 05-10859 Filed 5-31-05; 8:45 am]

BILLING CODE 4310-$$-P